DEPARTMENT OF HOUSING AND URBAN DEVELOPMENT

24 CFR Part 5

[Docket No. FR-4876-F-02]

RIN 2501-AD01

Implementation of Requirement in HUD Programs for Use of Data Universal Numbering System (DUNS) Identifier

AGENCY: Office of the Secretary, HUD.

ACTION: Final rule.

SUMMARY: On March 26, 2004, HUD published an interim rule implementing an Office of Management and Budget (OMB) policy directive that requires grant applicants, other than individuals, to provide a Data Universal Numbering System (DUNS) number when applying for Federal grants or other assistance agreements on or after October 1, 2003. HUD is applying this policy widely to its assistance programs in order to have a single identifier for applicants and to facilitate the transition to electronic application submission. This final rule follows publication of the March 26, 2004, interim rule. HUD did not receive any public comments on the interim rule and, therefore, is adopting the interim rule without change.

DATES: Effective Date: December 9, 2004.

FOR FURTHER INFORMATION CONTACT: Barbara Dorf, Director, Office of Departmental Grants Management and Oversight, Room 3156, Department of Housing and Urban Development, 451 Seventh Street, SW., Washington, DC 20410-3000, telephone (202) 708-0667 (this is not a toll-free number). Hearing-or speech-impaired individuals may access this number through TTY by calling the toll-free Federal Information Relay Service at (800) 877-8339.

SUPPLEMENTARY INFORMATION:

I. Background—HUD's March 26, 2004, Interim Rule

On March 26, 2004 (69 FR 15671), HUD published an interim rule implementing a June 27, 2003 (68 FR 38402), OMB final policy directive that implemented a governmentwide requirement for applicants to provide a DUNS number when applying for Federal grants or other assistance on or after October 1, 2003.

OMB determined that there was a governmentwide need for improved statistical reporting of Federal grants and cooperative agreements. Governmentwide use of the DUNS number will provide a means to identify entities receiving those grants and entering into cooperative agreements, as well as the means to identify those entities' business relationships. The identifier will be used for tracking purposes and to validate address and point-of-contact information. The DUNS number is already in general use by the Federal government to identify entities receiving Federal contracts and by some Federal agencies in their grant and cooperative agreement processes. Also, among existing numbering systems, DUNS is the only one that provides the Federal government the ability to determine hierarchical and family-tree data for related organizations.

Based on the OMB directive, HUD published its March 26, 2004, interim rule. The interim rule implemented OMB's DUNS policy and made it widely applicable to HUD funding programs by amending 24 CFR part 5 to add a new subpart K. The new subpart requires organizations that apply for HUD grants or other financial assistance to provide a DUNS number with the application. HUD's regulations at 24 CFR part 5 describe requirements that are generally applicable to all HUD programs.

The objective of this DUNS policy is to help ensure that HUD is able to identify funding received by the various entities that receive HUD program awards. Recipients affected include, but are not limited to: State, local, and tribal governments; public housing agencies (PHAs); tribally designated housing entities (TDHEs); universities and colleges; nonprofit organizations; for-profit organizations; owners of assisted housing; resident management organizations; and resident councils.

II. This Final Rule

This final rule follows publication of the March 26, 2004 interim rule. The interim rule became effective April 26, 2004, and provided for a 60-day comment period. The comment period for the interim rule closed on May 25, 2004. HUD did not receive any public comments on the interim rule. Accordingly, this final rule adopts the interim rule without changes. As discussed above, HUD's DUNS policy is codified in subpart K of HUD's regulations at 24 CFR part 5. This section of the preamble provides an overview of the policies contained in 24 CFR part 5, subpart K.

A. General

Organizations that apply for HUD grants or other financial assistance must provide a DUNS number with the application. This requirement covers funds awarded as a grant, cooperative agreement, capital fund or operating fund subsidy, capital advance, or other assistance. Every application for a new grant or assistance award or renewal of an award or plan (including a PHA plan) under all discretionary and formula grant programs must include an applicant's DUNS number. The DUNS requirement, however, does not extend to Federal Housing Administration (FHA) insurance or loan guarantee transactions that are not associated with a grant program or grant award.

Unless an exemption from this requirement is requested by HUD and approved by OMB, HUD will not consider an application as complete until a valid DUNS number is provided by the applicant. Consistent with the OMB policy directive issued on June 27, 2003, HUD may request that OMB approve an exemption from this requirement for classes of grants or grantees.

Also consistent with the OMB policy directive, it is HUD's intent to make all funding opportunities and applications for assistance available online at http://www.grants.gov. Use of the DUNS number will be required for all submissions through http://www.grants.gov.

B. Applicability to Consortia and Sponsors

As did the preceding interim rule, this final rule affirms that the DUNS requirement will also apply to groups of organizations applying for HUD grants or other financial assistance as consortia. Applicants or groups of applicants under consortia arrangements must have a DUNS number for the organization that submits an application for Federal assistance on behalf of the other applicants. However, if each organization is submitting a separate application for Federal assistance, then each organization must have a separate DUNS submitted with its application for assistance.

If an organization is managing funds for a group of organizations (as may be the case with several small PHAs utilizing a single management organization to apply for and manage funds on their behalf), a DUNS number must be submitted for the managing organization, if it is drawing down HUD funds directly. If an organization, such as a PHA, draws down funds directly from HUD and subsequently turns the funds over to a management organization, then the management organization must obtain a DUNS number and provide the number to HUD.

C. Applicability to Individuals

Individuals who would personally receive an assistance award from HUD, apart from any business or nonprofit organization that they may operate or participate in, are exempt from the requirements set forth in this final rule. Specifically, individuals may continue to apply under programs for which they are eligible without providing a DUNS number. In addition, an applicant is not required to submit DUNS numbers for entities with which it may enter into subawards. In cases where individuals apply for funding but the funding will be awarded to an institution or other entity on the individual's behalf, the institution or entity must obtain a DUNS number, and the individual must submit the institution's DUNS number with the application.

III. Obtaining a DUNS Number

The DUNS number does not replace existing identifiers, such as the Employer Identification Number (EIN), the Tax Identification Number (TIN), and State Application Identifier (SAI) numbers that are required by statute, Executive Order, or regulation.

Obtaining a DUNS number is free for all entities doing business with the Federal government. This includes applicants and prospective applicants for grants and cooperative agreements. An applicant should identify its organization as a Federal grant applicant or prospective applicant when it contacts Dun and Bradstreet (D&B) for a DUNS number, as explained below.

The DUNS number is site-specific; therefore, each distinct physical location of an applicant entity (such as a branch, division, or headquarters) may be assigned a DUNS number. If an organization already has a DUNS number in connection with the Federal acquisition process, or requested or had a DUNS number assigned for another purpose, the applicant may use that number for its application. When possible, organizations should avoid establishing new DUNS numbers. Organizations should take responsibility for updating and validating the information associated with the existing DUNS number(s). To help organizations manage multiple DUNS numbers, an entity may request D&B to supply a family tree report of the DUNS numbers associated with the organization. Organizations should work with D&B to ensure that the correct information is in the family tree report. If an organization wishes to determine if it has an existing DUNS number or wishes to request a family tree report, it may contact D&B toll-free at (866) 705-5711.

Organizations may receive a DUNS number by calling the dedicated toll-free DUNS number request line at (866) 705-5711 between 8 a.m. and 6 p.m. (local time of the caller when calling from within the United States). Speech-or hearing-impaired individuals may access the toll-free DUNS number request line through TTY by calling (866) 814-7818. Organizations alternatively may apply for DUNS numbers online at http://www.dunandbradstreet.com. For faster service, HUD recommends using the telephone request line to obtain a DUNS number. The telephone call to obtain a DUNS number takes approximately five to ten minutes, and a DUNS number will be assigned at the conclusion of the call. Applicants should expect that the following information will be requested: legal name; name and address for the organization's headquarters; “doing business as” (DBA) or other name by which the organization is commonly known or recognized; physical address, city, State and zip code; mailing address (if different from headquarters or physical address); telephone number; contact name and title; and number of employees.

IV. Findings and Certifications

Unfunded Mandates Reform Act

Title II of the Unfunded Mandates Reform Act of 1995 (UMRA) (2 U.S.C. 1531-1538) establishes requirements for Federal agencies to assess the effects of their regulatory actions on State, local, and tribal governments and the private sector. This final rule does not impose any Federal mandates on any State, local, or tribal government or the private sector within the meaning of UMRA.

Executive Order 13132, Federalism

Executive Order 13132 (entitled “Federalism”) prohibits, to the extent practicable and permitted by law, an agency from publishing any rule that has federalism implications and either imposes substantial direct compliance costs on State and local governments and is not required by statute, or the rule preempts State law, unless the agency meets the consultation and funding requirements of section 6 of the order. This rule does not have federalism implications and does not impose substantial direct compliance costs on State and local governments or preempt State law within the meaning of the order.

Regulatory Flexibility Act

The Secretary, in accordance with the Regulatory Flexibility Act (5 U.S.C. 605(b)), has reviewed this rule before publication and by approving it certifies that this rule does not have a significant economic impact on a substantial number of small entities. DUNS numbers are immediately obtained at no cost with minimal time and effort, and there are not any unusual procedures with which small entities alone would have to comply. Accordingly, the final rule will not impose any new costs, or modify existing costs, applicable to HUD grantees.

Environmental Impact

In accordance with 24 CFR part 50.19(c)(1) of the Department's regulations, this final rule does not direct, provide for assistance or loan and mortgage insurance for, or otherwise govern or regulate, real property acquisition, disposition, leasing, rehabilitation, alteration, demolition, or new construction, or establish, revise, or provide for standards for construction or construction materials, manufactured housing, or occupancy. Therefore, this final rule is categorically excluded from the requirements of the National Environmental Policy Act (42 U.S.C. 4332).

Catalog of Federal Domestic Assistance (CFDA) Numbers

The regulatory amendments contained in this final rule generally apply to all HUD assistance awards, unless the recipient is specifically exempted under this final rule or the program. The Catalog of Federal Domestic Assistance number for a particular HUD program may be found on the CFDA Web site at http://www.cfda.gov.

List of Subjects in 24 CFR Part 5

Administrative practice and procedure, Aged, Claims, Drug abuse, Drug traffic control, Grant programs—housing and community development, Grant programs—Indians, Individuals with disabilities, Information and statistics, Loan programs—housing and community development, Low and moderate income housing, Mortgage insurance, Pets, Public housing, Rent subsidies, Reporting and recordkeeping requirements.

Accordingly, for the reasons stated in the preamble, the interim rule that added Subpart K to part 5 of title 24 of the Code of Federal Regulations, published on March 26, 2004, at 69 FR 15671, is adopted as a final rule without change.

Dated: November 1, 2004.
Alphonso Jackson,
Secretary.

[FR Doc. 04-24884 Filed 11-8-04; 8:45 am]

BILLING CODE 4210-32-P